DEPARTMENT OF THE INTERIOR

Bureau of Indian Affairs

Indian Gaming

AGENCY: Bureau of Indian Affairs, Interior.

ACTION: Notice of Nation—State Gaming Compact taking effect.

SUMMARY: Pursuant to section 11 of the Indian Gaming Regulatory Act of 1988 (IGRA), Public Law 100-497, 25 U.S.C. 2710, the Secretary of the Interior shall publish, in the Federal Register, notice of approved Tribal-State Compacts for the purpose of engaging in Class III gaming activities on Indian lands. The Assistant Secretary—Indian Affairs, Department of the Interior, through his delegated authority, is publishing the notice that the Nation-State Compact for class III gaming between the Seneca Nation of Indians and the State of New York executed on August 18, 2002, is considered approved. By the terms of IGRA, this compact is considered approved, but only to the extent the compact is consistent with the provisions of IGRA.

EFFECTIVE DATE: December 9, 2002.

FOR FURTHER INFORMATION CONTACT: George T. Skibine, Director, Office of Indian Gaming Management, Bureau of Indian Affairs, Washington, DC 20240, (202) 219-4066.

Dated: November 18, 2002.
Neal A. McCaleb,
Assistant Secretary—Indian Affairs.

[FR Doc. 02-30967 Filed 12-6-02; 8:45 am]

BILLING CODE 4310-4N-M